DEPARTMENT OF ENERGY

Federal Energy Regulatory Commission

Combined Notice of Filings #1

Take notice that the Commission received the following electric corporate filings:

Docket Numbers: EC18-141-000.

Applicants: American Transmission Company LLC, Northern States Power Company, a Wisconsin corporation.

Description: Joint Application for Approval Under Section 203 of the Federal Power Act, et al.

Filed Date: 8/24/18.

Accession Number: 20180824-5200.

Comments Due: 5 p.m. ET 9/14/18.

Docket Numbers: EC18-142-000.

Applicants: Meadow Lake Wind Farm VI LLC, Prairie Queen Wind Farm LLC.

Description: Application for Authorization for Disposition of Jurisdictional Facilities, et al. of Meadow Lake Wind Farm VI LLC, et al.

Filed Date: 8/24/18.

Accession Number: 20180824-5235.

Comments Due: 5 p.m. ET 9/14/18.

Take notice that the Commission received the following electric rate filings:

Docket Numbers: ER10-3181-002.

Applicants: UGI Development Company.

Description: Notice of Non-Material Change in Status of UGI Development Company.

Filed Date: 8/24/18.

Accession Number: 20180824-5205.

Comments Due: 5 p.m. ET 9/14/18.

Docket Numbers: ER18-2308-000.

Applicants: K&K Wind Enterprises, LLC.

Description: Baseline eTariff Filing: MBR Tariff Filing of K&K Wind Enterprises, LLC to be effective 10/24/2018.

Filed Date: 8/24/18.

Accession Number: 20180824-5180.

Comments Due: 5 p.m. ET 9/14/18.

Docket Numbers: ER18-2309-000.

Applicants: Rose Creek Wind, LLC.

Description: Baseline eTariff Filing: MBR Tariff Filing of Rose Creek Wind, LLC to be effective 10/24/2018.

Filed Date: 8/24/18.

Accession Number: 20180824-5189.

Comments Due: 5 p.m. ET 9/14/18.

Docket Numbers: ER18-2310-000.

Applicants: Rose Wind Holdings, LLC.

Description: Baseline eTariff Filing: MBR Tariff Filing of Rose Wind Holdings, LLC to be effective 10/24/2018.

Filed Date: 8/24/18.

Accession Number: 20180824-5190.

Comments Due: 5 p.m. ET 9/14/18.

Docket Numbers: ER18-2311-000.

Applicants: SF Wind Enterprises, LLC.

Description: Baseline eTariff Filing: MBR Tariff Filing of SF Wind Enterprises, LLC to be effective 10/24/2018.

Filed Date: 8/24/18.

Accession Number: 20180824-5191.

Comments Due: 5 p.m. ET 9/14/18.

Docket Numbers: ER18-2312-000.

Applicants: Enel Green Power Diamond Vista Wind Project, LLC.

Description: Baseline eTariff Filing: MBR Tariff to be effective 9/1/2018.

Filed Date: 8/24/18.

Accession Number: 20180824-5192.

Comments Due: 5 p.m. ET 9/14/18.

Docket Numbers: ER18-2313-000.

Applicants: Pacific Gas and Electric Company.

Description: § 205(d) Rate Filing: Amendments to KMPUD IA and TFA—TO Service Agreement No. 276 to be effective 10/25/2018.

Filed Date: 8/24/18.

Accession Number: 20180824-5193.

Comments Due: 5 p.m. ET 9/14/18.

Docket Numbers: ER18-2314-000.

Applicants: Sholes Wind Energy, LLC.

Description: Baseline eTariff Filing: Sholes Wind, LLC Application for Market-Based Rate Authority to be effective 10/23/2018.

Filed Date: 8/24/18.

Accession Number: 20180824-5194.

Comments Due: 5 p.m. ET 9/14/18.

Docket Numbers: ER18-2315-000.

Applicants: PJM Interconnection, L.L.C.

Description: Tariff Cancellation: Notice of Cancellation of WMPA, SA No. 4943; Queue No. AC1-050 to be effective 8/7/2018.

Filed Date: 8/27/18.

Accession Number: 20180827-5038.

Comments Due: 5 p.m. ET 9/17/18.

Docket Numbers: ER18-2316-000.

Applicants: Pacific Gas and Electric Company.

Description: Request for One-Time Waiver of Pacific Gas and Electric Company.

Filed Date: 8/24/18.

Accession Number: 20180824-5243.

Comments Due: 5 p.m. ET 9/14/18.

Take notice that the Commission received the following electric reliability filings:

Docket Numbers: RR18-9-000.

Applicants: North American Electric Reliability Corporation.

Description: Request of North American Electric Reliability Corporation for Acceptance of 2019 Business Plans and Budgets of NERC and Regional Entities and for Approval of Assessments to Fund Budgets.

Filed Date: 8/24/18.

Accession Number: 20180824-5203.

Comments Due: 5 p.m. ET 9/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2018.
Nathaniel J. Davis, Sr.,
Deputy Secretary.

[FR Doc. 2018-18940 Filed 8-30-18; 8:45 am]

BILLING CODE 6717-01-P